DEPARTMENT OF THE INTERIOR

Fish and Wildlife Service

[FWS-R4-R-2008-N0267; 40136-1265-0000-S3]

Santee National Wildlife Refuge, Clarendon County, SC

AGENCY: Fish and Wildlife Service, Interior.

ACTION: Notice of availability: final comprehensive conservation plan and finding of no significant impact.

SUMMARY: We, the Fish and Wildlife Service (Service), announce the availability of our final comprehensive conservation plan (CCP) and finding of no significant impact (FONSI) for Santee National Wildlife Refuge (NWR). In the final CCP, we describe how we will manage this refuge for the next 15 years.

ADDRESSES: A copy of the CCP may be obtained by writing to: Santee NWR, 2125 Fort Watson Road, Summerton, SC 29148. The plan may also be accessed and downloaded from the Service's Web site: http://southeast.fws.gov/planning.

FOR FURTHER INFORMATION CONTACT: Mr. Marc Epstein, Refuge Manager, Santee National Wildlife Refuge; Telephone: 803/478-2217; fax: 803/478-2314; e-mail: marc_epstein@fws.gov.

SUPPLEMENTARY INFORMATION:

Introduction

With this notice, we finalize the CCP process for Santee NWR. We started this process through a notice in the Federal Register on January 3, 2007 (72 FR 143). For more about the process, see that notice.

The primary purpose of this 15,000-acre refuge, which was established in 1942, is to alleviate the loss of natural waterfowl and other wildlife habitat caused by the construction of hydro-electric power and navigational projects on the Santee and Cooper Rivers. The refuge lies within the Atlantic Coastal Plain and consists of mixed hardwoods, mixed pine hardwoods, pine plantations, marsh, croplands, old fields, ponds, impoundments, and open water.

We announce our decision and the availability of the final CCP and FONSI for Santee NWR in accordance with the National Environmental Policy Act (NEPA) [40 CFR 1506.6(b)] requirements. We completed a thorough analysis of impacts on the human environment, which we included in the draft comprehensive conservation plan and environmental assessment (Draft CCP/EA).

The CCP will guide us in managing and administering Santee NWR for the next 15 years. Alternative C, as we described in the final CCP, is the foundation for the CCP.

The compatibility determinations for (1) upland game hunting; (2) fishing/boating; (3) wildlife observation and photography; (4) environmental education and interpretation; (5) bicycling; (6) research; (7) exotic and nuisance wildlife control; (8) forest management—commercial timber harvest; and (9) cooperative farming are also available within the final CCP.

Background

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Comments

Approximately 120 copies of the Draft CCP/EA were made available for a 30-day public review period as announced in the Federal Register on June 30, 2008 (73 FR 36888). Written comments were received from local citizens and the South Carolina Department of Natural Resources.

Selected Alternative

After considering the comments we received, we have selected Alternative C for implementation. The primary focus under Alternative C will be to increase overall wildlife and habitat diversity. Although waterfowl will remain a focus of management, wetland habitat manipulations will also consider the needs of multiple species, such as marsh and wading birds. Management of upland forests and fields for neotropical migratory birds will be more actively managed than previously. Landscape level consideration of habitat management will include a diversity of open fields, upland and wetland forests, and additional managed wetlands. Multiple species consideration will include species and habitats identified by the South Atlantic Migratory Bird Initiative and the State's Strategic Conservation Plan.

This alternative will expand the monitoring efforts to provide additional, active efforts to monitor migratory neotropical and breeding songbirds, and other resident species. Monitoring efforts will be increased with the assistance of additional staff, trained volunteers, and academic research. A greater effort will be made to recruit academic researchers to the refuge to study and monitor refuge resources.

Wildlife-dependent uses of the refuge will continue. Hunting and fishing will continue to be allowed. However, hunting will be managed with a greater focus to achieve biological needs of the refuge, such as deer population management. Education and interpretation will continue, but with additional education and outreach efforts aimed at the importance of landscape ecology and diversity. A much broader effort will be made with outreach to nearby developing urban communities and a growing human population.

The refuge will be staffed at current levels plus the addition of two biological technicians to carry out the increased habitat management and monitoring needs. Greater emphasis will be placed on recruiting and training volunteers. Refuge biological programs will actively seek funding and researchers to study primarily management-oriented research needs. Refuge staff will place greater emphasis on developing and maintaining active partnerships, including seeking grants to assist the refuge in reaching primary objectives.

Alternative C is considered to be the most effective for meeting the purposes of the refuge by conserving, restoring, and managing the refuge's habitats and wildlife, while optimizing wildlife-dependent public uses. Alternative C will best achieve national, ecosystem, and refuge-specific goals and objectives and it positively addresses significant issues and concerns expressed by the public.

Authority: This notice is published under the authority of the National Wildlife Refuge System Improvement Act of 1997, Public Law 105-57.

Dated: September 30, 2008.
Cynthia K. Dohner,
Acting Regional Director.

[FR Doc. E8-27709 Filed 11-20-08; 8:45 am]

BILLING CODE 4310-55-P